NATIONAL AERONAUTICS AND SPACE ADMINISTRATION

[Notice (18-057)]

National Space-Based Positioning, Navigation, and Timing Advisory Board; Meeting

AGENCY: National Aeronautics and Space Administration (NASA).

ACTION: Notice of meeting.

SUMMARY: In accordance with the Federal Advisory Committee Act, as amended, and the President's 2004 U.S. Space-Based Positioning, Navigation, and Timing (PNT) Policy, the National Aeronautics and Space Administration (NASA) announces an intersession meeting of the National Space-Based Positioning, Navigation and Timing (PNT) Advisory Board. The meeting will be held via teleconference and WebEx.

DATES: Monday, August 6, 2018, 12:00 p.m. to 4:00 p.m., Eastern Time.

FOR FURTHER INFORMATION CONTACT: Mr. James J. Miller, Designated Federal Officer, Human Exploration and Operations Mission Directorate, NASA Headquarters, Washington, DC 20546, (202) 358-4417, fax (202) 358-4297, or jj.miller@nasa.gov.

SUPPLEMENTARY INFORMATION: This meeting will be open to the public telephonically and by WebEx. Any interested person may call the USA toll free conference call number at 1-844-467-4685 or the USA local toll number at 1-720-259-7012 passcode: 106724 to participate in this meeting by telephone. The WebEx link is https://nasa.webex.com/, meeting number is 995 034 805, password is uuU7bDX* (case sensitive). This meeting was agreed to at the 21st session of the National Space-Based PNT Advisory Board, held May 16-17, 2018, in Baltimore, Maryland. The public may follow the discussions by dial-in and/or the web link provided. The agenda includes the following topics:

• Finalize and Approve the National Space-Based PNT Advisory Board Topics Paper

• Finalize and Approve the National Space-Based PNT Advisory Board Memorandum on Spectrum Issues to the National Space-Based PNT Executive Committee

Carol J. Hamilton,
Acting Advisory Committee Management Officer, National Aeronautics and Space Administration.

[FR Doc. 2018-15753 Filed 7-23-18; 8:45 am]

BILLING CODE 7510-13-P